DEPARTMENT OF DEFENSE

Department of the Army

Proposed Collection; Comment Request

AGENCY: Deputy Chief of Staff for Personnel (DAPE-ZXI-RM), U.S. Army, DoD.

ACTION: Notice.

In compliance with section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 31, 2000.

ADDRESSES: Written comments and recommendations on the proposed information collection should be sent to the United States Army Recruiting Command, Program analysis & Evaluation Directorate, Building 1307 3rd Avenue, Fort Knox, Kentucky 4012-2726, ATTN: (Mary H. Baker). Consideration will be given to all comments received within 60 days of the date of publication of this notice.

FOR FURTHER INFORMATION CONTACT: To request more information on this proposed information collection or to obtain a copy of the proposal and associated collection instruments, please write to the above address, or call Department of the Army Reports clearance officer at (703) 614-0454.

Title: Survey of Army Applicants Who were “Qualified Not Enlisted” (QNE) or Those Who entered the Delayed Entry Program (DEP) but Chose Not to complete the Enlistment Process.

Needs and Uses: A very large number of individuals make a decision to enlist in the Army and, although qualified, do not complete the enlistment process. Another group of individuals actually enlists, and become members of the Delayed Entry Program, then later changes their mind prior to actual ship date and become a loss. Understanding the reasons for these losses may place the Army Recruiting Command in a better position to provide the necessary number of recruits to maintain end strength.

Affected Public: Individuals or households.

Annual Burden Hours: 784.

Number of Respondents: 8000.

Responses per Respondent: 1.

Average Burden per Response: 21 minutes.

Frequency: Annually.

Supplementary Information: The survey effort will track the role that expectations play in an individual's decision to become a loss. The model employed in this effort was derived from literature pertaining to organizational socialization, motivation, and decision-making, and posits that Delayed Entry Program attrition is a function of personal characteristics, as well as changes in a recruit's attitudes, perceptions, and valued outcomes. This survey effort will collect expectation metrics concerning the value of Army enlistment incentives, training, and job/occupational choices.

Gregory D. Showalter,
Army Federal Register Liaison Officer.

[FR Doc. 00-13343 Filed 5-26-00; 8:45 am]

BILLING CODE 3710-08-U